DEPARTMENT OF HEALTH AND HUMAN SERVICES

National Institutes of Health

Submission for OMB Review; Comment Request; Follow-up of Kidney Cancer Patients From the Central European Multicenter Case-Control Study (CEERCC) (NCI)

SUMMARY: Under the provisions of section 3507(a)(1)(D) of the Paperwork Reduction Act of 1995, the National Cancer Institute (NCI), the National Institutes of Health (NIH), has submitted to the Office of Management and Budget (OMB) a request to review and approve the information collection listed below. This proposed information collection was previously published in the Federal Register on November 3, 2008 (Volume 73, No. 213, p. 65387) and allowed 60 days for public comment. There was one public comment received which questioned why U.S. tax dollars are being spent on a study located in Europe. The investigator responded directly to the comment on 12/19/08 stating that this study costs less money to conduct in central Europe than in the U.S. since previous data has already been collected. Additionally, since this region has the highest rates of kidney cancer in the world a study in this area would provide a wealth of data in terms of the causes of kidney cancer. The purpose of this notice is to allow an additional 30 days for public comment. The National Institutes of Health may not conduct or sponsor, and the respondent is not required to respond to, an information collection that has been extended, revised, or implemented on or after October 1, 1995, unless it displays a currently valid OMB control number.

Proposed Collection: Title: Follow-up of Kidney Cancer Patients from the Central European Multicenter Case-Control Study (NCI). Type of Information Collection Request: New. Need and Use of Information Collection: The purpose of this questionnaire is to obtain information on the 5-year survival status of kidney cancer patients that were previously enrolled in a Central European Case-Control Study of Kidney Cancer that was conducted from 2001 to 2004. The aim is to assess survival, the prevalence of recurrent disease and progression, and to investigate patient, tumor and genetic determinants of survival among cases. The questionnaire will collect information on patient related factors, tumor related factors that were not collected during the initial study, and the type of treatment(s) received since the patients were last contacted for the case-control study. This questionnaire adheres to The Public Health Service Act, section 412 (42 U.S.C. 285a-1) and section 413 (42 U.S.C. 285a-2), which authorizes the Division of Cancer Epidemiology and Genetics of the National Cancer Institute (NCI) to establish and support programs for the detection, diagnosis, prevention and treatment of cancer; and to collect, identify, analyze and disseminate information on cancer research, diagnosis, prevention and treatment. Frequency of Response: Once. Affected Public: Individuals. Type of Respondents: Individuals that participated in the Central European Renal Cancer Case-Control Study between 2001-2004 and physician abstractors. The estimated total annual burden hours requested is 296. The annualized cost to respondents is estimated at $5174. The data will be collected within a two-year period. There are no additional capital costs, operating costs, and/or maintenance costs to report.

Estimates of Annual Burden Hours
Type of respondents | Number of respondents | Frequency of response | Average time per response (Minutes/Hour) | Annual burden hours
Patients | 200 | 1 | 40/60 | 133.33
Families (NOK) | 240 | 1 | 40/60 | 160.00
Physicians | 10 | 1 | 15/60 | 2.50
Totals | 450 |  |  | 295.83

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Lee E. Moore, PhD, MPH, Investigator, Occupational and Environmental Epidemiology Branch, Division of Cancer Epidemiology and Genetics, National Cancer Institute, NIH, DHHS, Executive Plaza South, Room 8102, 6120 Executive Blvd., EPS-MSC 7242, Bethesda, MD 20892-7270 or call non-toll-free number 301-496-6427 or e-mail your request, including your address to: moorele@mail.nih.gov.

Comments Due Date: Comments regarding this information collection are best assured of having their full effect if received within 30 days of the date of this publication.

Dated: January 2, 2009.
Vivian Horovitch-Kelley,
NCI Project Clearance Liaison Office, National Institutes of Health.

[FR Doc. E9-484 Filed 1-12-09; 8:45 am]

BILLING CODE 4140-01-P